DEPARTMENT OF DEFENSE

Department of the Army

Notice of Availability of the Draft Environmental Impact Statement (DEIS) for Grow the Army Actions at Fort Lewis and the Yakima Training Center (YTC), WA

AGENCY: Department of the Army, DoD.

ACTION: Notice of Availability (NOA).

SUMMARY: The Department of the Army announces the availability of a DEIS that analyzes the environmental and socioeconomic impacts of implementing the stationing and realignment decisions in the 2007 “Grow the Army” Programmatic EIS (GTA PEIS) and other ongoing Army realignment and stationing initiatives pertaining to Fort Lewis and YTC. The GTA PEIS Record of Decision (ROD) specified the stationing of additional units at Fort Lewis including an Expeditionary Sustainment Command, and directed unit restructuring actions that would increase active duty strength at Fort Lewis by approximately 1,900 Soldiers. The DEIS also analyzes Fort Lewis and YTC as potential locations for the stationing of approximately 1,000 combat service support (CSS) Soldiers consisting of quartermaster, medical, transportation, headquarters or other CSS units to support combat operations, and the potential stationing of a medium Combat Aviation Brigade (CAB) consisting of approximately 2,800 soldiers and 110 helicopters.

DATES: The public comment period for the DEIS will end 45 days after publication of an NOA in the Federal Register by the Environmental Protection Agency.

ADDRESSES: Questions or comments regarding the DEIS should be forwarded to: Department of the Army, Directorate of Public Works, Attention: IMWE-LEW-PWE (Mr. Paul T. Steucke, Jr.), Building 2012, Liggett Avenue, Box 339500 MS 17, Fort Lewis, WA 98433-9500.

FOR FURTHER INFORMATION CONTACT: Mr. Bill Van Hoesen, Fort Lewis National Environmental Policy Act (NEPA) Coordinator, at (253) 966-1780 during business hours (8 a.m. to 4 p.m. PDT, Monday through Friday).

SUPPLEMENTARY INFORMATION: Fort Lewis is an 86,176 acre major Army installation in western Washington (approximately 35 miles south of Seattle) and is one of 15 U.S. power projection platforms. The 327,231 acre YTC is a subinstallation of Fort Lewis located about 7 miles northeast of the City of Yakima in central Washington. Fort Lewis and YTC are important Army facilities for weapons qualification and field training. In addition to the units stationed there, Reserve and National Guard units, as well as units from allied nations, train at Fort Lewis and YTC.

The DEIS evaluates the potential impacts of the site-specific actions for the alternatives to implement the Proposed Action. These actions include troop stationing, maneuver and live-fire training, and construction. The following alternatives are evaluated:

(1) The No Action alternative assumes that the Army GTA decisions would not be implemented. It is not a viable alternative because the Army GTA decisions have already been made, and the decisions need to be implemented. Analysis of the No Action alternative serves as a baseline for comparison of the other alternatives. Under this alternative, planned construction that is not part of the GTA decisions includes troop barracks, recreational facilities, traffic flow improvements and other infrastructure upgrades at Fort Lewis.

(2) The GTA alternative implements the Army GTA decisions affecting Fort Lewis and YTC. Maneuver and live-fire training of an additional 1,900 Soldiers will occur at Fort Lewis and YTC. This alternative also includes the training of three Stryker Brigade Combat Teams (SBCT5) present simultaneously at Fort Lewis and YTC. Planned new construction includes brigade barracks complexes, the upgrade of sub-standard SBCT facilities to meet Army standards, and additional firing ranges at Fort Lewis and YTC.

(3) The CSS alternative represents the potential stationing at Fort Lewis of up to 1,000 CSS Soldiers in addition to Alternative 2. Maneuver and live-fire training of up to 2,900 new Soldiers would occur at Fort Lewis and YTC. Specific construction projects cannot be identified until the types and numbers of CSS units are known, but new construction would include barracks, motor pools, classrooms and administrative facilities.

(4) The CAB alternative represents the potential stationing at Fort Lewis of a medium CAB in addition to Alternative 3. Maneuver and live-fire training of up include the air and ground assets of the CAB. New construction facilities to support the CAB would be similar to those required for Alternative 3.

Major impacts expected from implementing the Proposed Action include noise from the increased frequency of demolitions and live-fire training, which would extend further beyond the boundaries of Fort Lewis into the surrounding communities. Additional traffic volume from the potential stationing of the medium CAB would increase the delays and congestion at key intersections during peak traffic hours. Although the additional number of schoolchildren from each alternative would increase the number of schoolchildren in the local school systems, the potential CAB stationing would significantly impact the local school systems that support Fort Lewis. At YTC, increased use of training lands and firing ranges for maneuver and live-fire training would increase the risk of damage to wildlife and wildlife habitat.

A copy of the DEIS may be accessed at the following Web site: http://www.lewis.army.mil/publicworks/sites/envir/EIA_2.htm. Comments from the public will be considered before any decision is made regarding implementation of the Proposed Action.

Dated: September 2, 2009.
Addison D. Davis, IV,
Deputy Assistant Secretary of the Army (Environment, Safety and Occupational Health).

[FR Doc. E9-21932 Filed 9-11-09; 8:45 am]

BILLING CODE 3710-08-M